DEPARTMENT OF HEALTH AND HUMAN SERVICES

National Institutes of Health

National Institute on Alcohol Abuse and Alcoholism; Amended Notice of Meeting

Notice is hereby given of a change in the meeting of the Biomedical Research Study Section, October 29, 2024, 09:00 a.m. to October 29, 2024, 03:30 p.m., National Institute of Health, National Institute on Alcohol Abuse and Alcoholism, 6700B Rockledge Drive, Bethesda, MD, 20892 which was published in the Federal Register on August 20, 2024, 89 FR 67453, Doc 2024-18557.

This notice is being amended to change the Meeting Scientific Review Officer from Dr. Anna Ghambaryan, M.D., Ph.D. to Dr. Mamatha Garige, Ph.D., Extramural Project Review Branch, National Institute on Alcohol Abuse and Alcoholism, National Institutes of Health, 6700B Rockledge Drive, Room 2118, Bethesda, MD, 20817, Phone: (301) 443-9737, Email: mamatha.garige@nih.gov. The meeting is closed to the public.

Dated: September 10, 2024.
David W. Freeman,
Supervisory Program Analyst, Office of Federal Advisory Committee Policy.

[FR Doc. 2024-20881 Filed 9-12-24; 8:45 am]

BILLING CODE 4140-01-P